ENVIRONMENTAL PROTECTION AGENCY

[Regional Docket Nos. V-2009-1, FRL-9276-7]

Clean Air Act Operating Permit Program; Objection to State Operating Permit for U.S. Steel-Granite City Works

AGENCY: Environmental Protection Agency (EPA).

ACTION: Notice of final order on petition to object to Clean Air Act operating permit.

SUMMARY: This document announces that the EPA Administrator partially granted and partially denied a petition from the Interdisciplinary Environmental Clinic at the Washington University School of Law submitted to EPA on behalf of the American Bottom Conservancy (Petitioner) to object to the operating permit issued by the Illinois Environmental Protection Agency to the U.S. Steel—Granite City Works (USS).

Sections 307(b) and 505(b)(2) of the Clean Air Act (Act) provide that a petitioner may ask for judicial review in the United States Court of Appeals for the appropriate circuit of those portions of the petition which EPA denies. Any petition for review shall be filed within 60 days from the date this notice appears in the Federal Register, pursuant to section 307 of the Act.

ADDRESSES: You may review copies of the final order, the petition, and other supporting information at the EPA Region 5 Office, 77 West Jackson Boulevard, Chicago, Illinois 60604. If you wish to examine these documents, you should make an appointment with Genevieve Damico at least 24 hours before visiting the Region 5 offices. Additionally, the final order for the USS petition is available electronically at: http://www.epa.gov/region07/air/title5/petitiondb/petitions/uss_response2009.pdf.

FOR FURTHER INFORMATION CONTACT: Genevieve Damico, Acting Chief, Air Permits Section, Air Programs Branch, Air and Radiation Division, EPA, Region 5, 77 West Jackson Boulevard, Chicago, Illinois 60604, (312)353-4761.

SUPPLEMENTARY INFORMATION: The Act affords EPA a 45-day period to review, and object, as appropriate, to Title V operating permits proposed by State permitting authorities. Section 505(b)(2) of the Act authorizes any person to petition the EPA Administrator within 60 days after the expiration of the EPA review period to object to a Title V operating permit if EPA has not done so. A petition must be based only on objections to the permit that were raised with reasonable specificity during the public comment period provided by the State, unless the petitioner demonstrates that it was impracticable to raise issues during the comment period, or the grounds for the issues arose after this period.

On October 1, 2009, the Petitioner submitted a petition requesting that EPA object to the USS Title V permit pursuant to section 505(b)(2) of the Act and 40 CFR 70.8(d). Petitioner alleged that (1) the permit fails to include all applicable permits and permit requirements; (2) the permit fails to provide periodic monitoring sufficient to assure compliance; (3) the permit lacks compliance schedules to remedy all current violations; (4) the permit unlawfully exempts emissions during startup, shutdown, and malfunctions; (5) the permit fails to include compliance assurance monitoring requirements; and (6) numerous permit provisions are not practically enforceable.

On January 28, 2011, the Administrator issued an order partially granting and partially denying the petition. The order explains the reasons behind EPA's conclusion.

Dated: February 28, 2011.
Susan Hedman,
Regional Administrator, Region 5.

[FR Doc. 2011-5189 Filed 3-7-11; 8:45 am]

BILLING CODE 6560-50-P